DEPARTMENT OF COMMERCE

International Trade Administration

[A-580-601]

Top-of-the-Stove Stainless Steel Cooking Ware From Korea: Extension of Preliminary Results of Antidumping Duty Administrative Review

AGENCY: Import Administration, International Trade Administration, Department of Commerce.

EFFECTIVE DATE: August 25, 2000.

FOR FURTHER INFORMATION CONTACT: Nova Daly at (202) 482-0989, Office of AD/CVD Enforcement Group 4, Import Administration, International Trade Administration, U.S. Department of Commerce, 14th Street and Constitution Ave, NW., Washington, DC 20230.

Time Limits

Statutory Time Limits

Section 751(a)(3)(A) of the Tariff Act of 1930, as amended (the Act), requires the Department of Commerce (the Department) to make a preliminary determination within 245 days after the last day of the anniversary month of an order/finding for which a review is requested and a final determination within 120 days after the date on which the preliminary determination is published. However, if it is not practicable to complete the review within the time period, section 751(a)(3)(A) of the Act allows the Department to extend the time limit for the preliminary determination to a maximum of 365 days and for the final determination to 180 days (or 300 days if the Department does not extend the time limit for the preliminary determination) from the date of publication of the preliminary determination.

Background

On February 28, 2000 the Department published a notice of initiation of administrative review of the antidumping duty order on Top-of-the-Stove Stainless Steel Cooking Ware from Korea, covering the period January 1, 1999 through December 31, 1999 (65 FR 10466). The preliminary results are currently due no later than October 2, 2000.

Extension of Preliminary Results of Review

We determine that it is not practicable to complete the preliminary results of this review within the original time limit. Therefore, we are extending the time limit for completion of the preliminary results until no later than January 30, 2001. See Decision Memorandum from Acting Office Director Tom Futtner to Acting Deputy Assistant Secretary Holly Kuga, dated concurrently with this notice, which is on file in the Central Records Unit, Room B-099 of the main Commerce Building. We intend to issue the final determination no later than 120 days after the publication of the preliminary results of review notice.

This extension is in accordance with section 751(a)(3)(A) of the Act.

Dated: August 10, 2000.
Holly A. Kuga,
Acting Deputy Assistant Secretary for Import Administration.

[FR Doc. 00-21807 Filed 8-24-00; 8:45 am]

BILLING CODE 3510-DS-P